DEPARTMENT OF COMMERCE

National Institute of Standards and Technology

Announcement of a Meeting To Discuss an Opportunity To Join a Cooperative Research and Development Consortium on Service Life Prediction of Sealant Formulations Consortia

AGENCY: National Institute of Standards and Technology, Commerce.

ACTION: Notice of public meeting.

SUMMARY: The National Institute of Standards and Technology (NIST) invites interested parties to attend a meeting on September 24, 2000 and September 25, 2000 on Service Life Prediction of Sealant Formulations. The goal of the consortium is to demonstrate the effectiveness of a reliability based approach to the prediction of service life for a sealant formulations.

DATES: The meeting will take place on September 24, 2000 from 9:00 a.m. until 5:00 p.m., and on September 25, 2000 from 9:00 a.m. until 12:00 p.m. Interested parties should contact NIST to confirm their interest at the address, telephone number or FAX number shown below.

ADDRESSES: The meeting will take place in Lecture Room B of the Administration Building (Building 101), National Institute of Standards and Technology, Gaithersburg, MD 20899-0001.

FOR FURTHER INFORMATION CONTACT: Dr. Christopher C. White, Building and Fire Research Building (226), Room B350, 100 Bureau Drive, Stop 8621, National Institute of Standards and Technology, Gaithersburg, MD 20899-8621. Telephone: 301-975-6010; FAX: 301-990-6891; e-mail: Christopher.white@nist.gov.

SUPPLEMENTARY INFORMATION: Any program undertaken will be within the scope and confines of The Federal Technology Transfer Act of 1986 (Public Law 99-502, 15 U.S.C. 3710a), which provides federal laboratories including NIST, with the authority to enter into cooperative research agreements with qualified parties. Under this law, NIST may contribute personnel, equipment, and facilities but no funds to the cooperative research program. This is not a grant program.

The R&D staff of each industrial partner in the Consortium will be able to interact with NIST researchers regarding current experimental methods to determine the service life of sealant formulations. The current state-of-the-art for service life predictions employ outdoor exposure as the only reliable test method. This leads to a choice by the manufacturers of new sealant formulations: Conduct these tests and incur long product introduction times, or omit these tests and incur increased risk of liability exposure. There is little confidence in the relationship between accelerated exposure and service life.

This conference will focus on the implementation of a reliability based protocol to establish confidence in accelerated determination of the service life of sealant formulations. Additionally, the issues of proper installation, joint construction and proper materials selection will be discussed as they relate to durability of in-service sealants.

Dated: August 14, 2000.
Karen H. Brown,
Deputy Director.

[FR Doc. 00-21335 Filed 8-21-00; 8:45 am]

BILLING CODE 3510-13-M